DEPARTMENT OF HOUSING AND URBAN DEVELOPMENT

24 CFR Part 203

[Docket No. FR-5087-F-05]

RIN 2502-AI52

Standards for Mortgagor's Investment in Mortgaged Property: Compliance With Court Order Vacating Final Rule

AGENCY: Office of the Assistant Secretary for Housing-Federal Housing Commissioner, HUD.

ACTION: Final rule.

SUMMARY: This final rule complies with a court order to vacate HUD's rule entitled “Standards for Mortgagor's Investment in Mortgaged Property” published on October 1, 2007.

DATES: Effective Date: January 30, 2009.

FOR FURTHER INFORMATION CONTACT: Margaret Burns, Director, Office of Single Family Program Development, Department of Housing and Urban Development, 451 Seventh Street, SW., Washington, DC 20410; telephone number 202-708-2121 (this is not a toll-free number). Persons with hearing or speech impairments may access this number through TTY by calling the toll-free Federal Information Relay Service at 800-877-8339.

SUPPLEMENTARY INFORMATION: Pursuant to the February 29, 2008, order of the U.S. District Court for the Eastern District of California in Nehemiah Corporation of America v. Jackson, et al., No. S-07-2056 (E.D. Cal.), and the March 5, 2008, order of the U.S. District Court for the District of Columbia in Ameridream Inc., et al., v. Jackson, No. 07-1752 (D.D.C.) and Penobscot Indian Nation, et al., v. HUD, No. 07-1282 (D.D.C.), which vacated the final rule entitled “Standards for Mortgagor's Investment in Mortgaged Property”, published on October 1, 2007 (72 FR 56002), this final rule removes the regulation at 24 CFR 203.19, and reserves § 203.19.

Findings and Certifications

Justification for Final Rulemaking

In general, HUD publishes a rule for public comment before issuing a final rule, in accordance with its own regulations on rulemaking at 24 CFR part 10. Part 10, however, does provide, in § 10.1, for exceptions from that general rule where the HUD finds good cause to omit advance notice and public participation. The good cause requirement is satisfied when the prior public procedure is “impracticable, unnecessary, or contrary to the public interest.” HUD finds that good cause exists and prior public procedure is unnecessary because HUD has no discretion but to comply with the court order to vacate the October 1, 2007, final rule entitled, “Standards for Mortgagor's Investment in Mortgaged Property.” Public comment in this context would serve no purpose and is, therefore, unnecessary.

Environmental Review

A Finding of No Significant Impact was not required for the October 1, 2007 final rule. Under 24 CFR 50.19(b)(6), that rule was categorically excluded from the requirements of the National Environmental Policy Act (42 U.S.C. 4332 et seq.) and that categorical exclusion continues to apply.

Catalog of Federal Domestic Assistance

The Catalog of Federal Domestic Assistance Number for the principal Federal Housing Administration (FHA) single family mortgage insurance program is 14.117. This rule also applies through cross-referencing to FHA mortgage insurance for condominium units (14.133), and other smaller single family programs.

List of Subjects in 24 CFR Part 203

Loan programs—housing and community development, Mortgage insurance, Reporting and recordkeeping requirements.

Accordingly, the Department amends 24 CFR part 203, as follows:

PART 203—SINGLE FAMILY MORTGAGE INSURANCE

1. The authority citation for part 203 continues to read as follows:

Authority: 12 U.S.C. 1709, 1710, 1715b, 1715z-16, and 1715u; 42 U.S.C. 3535(d).

§ 203.19 [Removed and Reserved]

2. Section 203.19 is removed and reserved.

Dated: December 19, 2008.
Ronald Y. Spraker,
Acting General Deputy Assistant Secretary for Housing—Acting Deputy Federal Housing Commissioner.

[FR Doc. E8-31060 Filed 12-30-08; 8:45 am]

BILLING CODE 4210-67-P